DEPARTMENT OF THE INTERIOR

Bureau of Indian Affairs

[222A2100DD/AAKC001030/A0A501010.999900253G; OMB Control Number 1076-0164, 1076-0185]

Agency Information Collection Activities; Homeliving Programs and School Closure and Consolidation, Tribal Education Department Grant Program

AGENCY: Bureau of Indian Education, Interior.

ACTION: Notice of Information Collection; request for comment.

SUMMARY: In accordance with the Paperwork Reduction Act of 1995, we, the Bureau of Indian Education (BIE), are proposing to renew two information collections.

DATES: Interested persons are invited to submit comments on or before March 28, 2022.

ADDRESSES: Send your comments on this information collection request (ICR) by mail to Steven Mullen, Information Collection Clearance Officer, Office of Regulatory Affairs and Collaborative Action—Indian Affairs, U.S. Department of the Interior, 1001 Indian School Road NW, Suite 229, Albuquerque, New Mexico 87104; or by email to comments@bia.gov. Please reference Office of Management and Budget (OMB) Control Number 1076-0164 or 1076-0185 in the subject line of your comments.

FOR FURTHER INFORMATION CONTACT: Veronica Lane, Acting Chief Performance Officer, Central Office, by email at veronica.lane@bie.edu, or by telephone at (202) 893-1828. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The regulations at 25 CFR 36, Subpart G, Home-living Programs, implement section 1122 of the Native American Education Improvement Act of 2001 (Pub. L. 95-561, title XI, § 1120, as added Pub. L. 107-110, title X, § 1042, Jan. 8, 2002, 115 Stat. 2007). These regulations require the BIE to implement national standards for home-living situations in all BIE-funded residential schools. The BIE must collect information from all BIE-funded residential schools in order to assess each school's progress in meeting the national standards. Submission of this information allows the BIE to ensure that minimum academic standards for the education of Indian children and criteria for dormitory situations in Bureau-operated schools and Indian-controlled contract schools are met.

Title of Collection: Homeliving Programs and School Closure and Consolidation.

OMB Control Number: 1076-0164.

Form Number: None.

Type of Review: Extension of a currently approved collection.

Respondents/Affected Public: Indian Tribes.

Total Estimated Number of Annual Respondents: 164.

Total Estimated Number of Annual Responses: 164 per year, on average.

Estimated Completion Time per Response: Ranges from 15 minutes to 40 hours, depending on the activity.

Total Estimated Number of Annual Burden Hours: 932 hours.

Respondent's Obligation: Response is required to obtain a benefit.

Frequency of Collection: Annual or on occasion, depending on the activity.

Total Estimated Annual Nonhour Burden Cost: $0.

Abstract: Under 25 U.S.C. 2020, Congress appropriated funding through the BIE for the development and operation of Tribal departments or divisions of education for the purpose of planning and coordinating all educational programs of the Tribe. All Tribal education departments (TEDs) awarded will provide coordinating services and technical assistance to the school(s) they serve. As required under 25 U.S.C. 2020, for a federally recognized Tribe to be eligible to receive a grant, the Tribe must submit a grant application proposal. Once the grant has been awarded, each awardee will be responsible for quarterly and annual reports. All awardees must comply with regulations relating to grants made under 25 U.S.C. 5322(a).

Title of Collection: Tribal Education Department Grant Program.

OMB Control Number: 1076-0185.

Form Number: None.

Type of Review: Extension of a currently approved collection.

Respondents/Affected Public: Federally recognized Tribes and their Tribal Education Departments (TEDs).

Total Estimated Number of Annual Respondents: 33.

Total Estimated Number of Annual Responses: 63.

Estimated Completion Time per Response: Varies from 2 to 81 hours.

Total Estimated Number of Annual Burden Hours: 1,113 hours.

Respondent's Obligation: Required to Obtain or Retain a Benefit.

Frequency of Collection: Yearly for the proposal and annual report, quarterly for the quarterly reports.

Total Estimated Annual Nonhour Burden Cost: None.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2022-01480 Filed 1-25-22; 8:45 am]

BILLING CODE 4337-15-P